DEPARTMENT OF HOMELAND SECURITY

Federal Emergency Management Agency

[Docket ID FEMA-2025-0002; Internal Agency Docket No. FEMA-B-2576]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The current effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Assistant Administrator for the Federal Insurance Directorate, Resilience, reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: David N. Bascom, Acting Director, Engineering and Modeling Division, National Flood Insurance Program, Resilience, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Elizabeth Asche,
Assistant Administrator, Federal Insurance Directorate, Resilience Federal Emergency Management Agency, Department of Homeland Security.

State and county | Location and case No. | Chief executive officer of community | Community map repository | Online location of letter of map revision | Date of modification | Community No.
Arizona:
Maricopa | City of Buckeye (25-09-0735P). | The Honorable Eric Orsborn, Mayor, City of Buckeye, 530 East Monroe Avenue, Buckeye, AZ 85326. | City Hall, 945 North 215th Avenue, Suite 137, Buckeye, AZ 85326. | https://msc.fema.gov/portal/advanceSearch. | Feb. 10, 2026 | 040039
Maricopa | City of Glendale (25-09-0110P). | The Honorable Jerry P. Weiers, Mayor, City of Glendale, 9494 West Maryland Avenue, Glendale, AZ 85305. | City Hall, 5850 West Glendale Avenue, Glendale, AZ 85301. | https://msc.fema.gov/portal/advanceSearch. | Jan. 23, 2026 | 040045
Maricopa | City of Goodyear (25-09-0308P). | The Honorable Joe Pizzillo, Mayor, City of Goodyear, 1900 North Civic Square, Goodyear, AZ 85395. | City Hall, 1900 North Civic Square, Goodyear, AZ 85395. | https://msc.fema.gov/portal/advanceSearch. | Jan. 26, 2026 | 040046
Maricopa | City of Phoenix (25-09-0426P). | The Honorable Kate Gallego, Mayor, City of Phoenix, 200 West Washington Street, Phoenix, AZ 85003. | Street Transportation Department, 200 West Washington Street, 5th Floor, Phoenix, AZ 85003. | https://msc.fema.gov/portal/advanceSearch. | Dec. 26, 2025 | 040051
Maricopa | City of Surprise (23-09-0945P). | The Honorable Kevin Sartor, Mayor, City of Surprise, 16000 North Civic Center Plaza, Surprise, AZ 85374. | City Hall, 16000 North Civic Center Plaza, Surprise, AZ 85374. | https://msc.fema.gov/portal/advanceSearch. | Jan. 23, 2026 | 040053
Maricopa | Unincorporated areas of Maricopa County (25-09-0110P). | Jen Pokorski, County Manager, Maricopa County, 301 West Jefferson Street, Phoenix, AZ 85003. | Flood Control District of Maricopa County, 2801 West Durango Street, Phoenix, AZ 85009. | https://msc.fema.gov/portal/advanceSearch. | Jan. 23, 2026 | 040037
Maricopa | Unincorporated areas of Maricopa County (25-09-0480P). | Jen Pokorski, County Manager, Maricopa County, 301 West Jefferson Street, Phoenix, AZ 85003. | Flood Control District of Maricopa County, 2801 West Durango Street, Phoenix, AZ 85009. | https://msc.fema.gov/portal/advanceSearch. | Jan. 30, 2026 | 040037
Maricopa | Unincorporated areas of Maricopa County (25-09-0528P). | Jen Pokorski, County Manager, Maricopa County, 301 West Jefferson Street, Phoenix, AZ 85003. | Flood Control District of Maricopa County, 2801 West Durango Street, Phoenix, AZ 85009. | https://msc.fema.gov/portal/advanceSearch. | Feb. 13, 2026 | 040037
Maricopa | Unincorporated areas of Maricopa County (25-09-0735P). | Jen Pokorski, County Manager, Maricopa County, 301 West Jefferson Street, Phoenix, AZ 85003. | Flood Control District of Maricopa County, 2801 West Durango Street, Phoenix, AZ 85009. | https://msc.fema.gov/portal/advanceSearch. | Feb. 10, 2026 | 040037
Navajo | Town of Snowflake (24-09-0675P). | The Honorable Bryon Lewis, Mayor, Town of Snowflake, 81 West 1st South Street, Snowflake, AZ 85937. | Town Hall, 81 West 1st South Street, Snowflake, AZ 85937. | https://msc.fema.gov/portal/advanceSearch. | Feb. 9, 2026 | 040070
Pima | Town of Oro Valley (24-09-0290P). | The Honorable Joe Winfield, Mayor, Town of Oro Valley, 11000 North La Canada Drive, Oro Valley, AZ 85737. | Town Hall, 11000 North La Canada Drive, Oro Valley, AZ 85737. | https://msc.fema.gov/portal/advanceSearch. | Jan. 15, 2026 | 040109
California:
Los Angeles | Unincorporated areas of Los Angeles County (24-09-0642P). | Fesia Davenport, Chief Executive Officer, Los Angeles County, 500 West Temple Street, Los Angeles, CA 90012. | Los Angeles County Public Works, 900 South Fremont Avenue, Alhambra, CA 91803. | https://msc.fema.gov/portal/advanceSearch. | Jan. 28, 2026 | 065043
Riverside | City of Norco (25-09-0576P). | The Honorable Greg Newton, Mayor, City of Norco, 2870 Clark Avenue, Norco, CA 92860. | City Hall, 2870 Clark Avenue, Norco, CA 92860. | https://msc.fema.gov/portal/advanceSearch. | Dec. 9, 2025 | 060256
Sacramento | Unincorporated areas of Sacramento County (24-09-1218P). | The Honorable David Villanueva, Sacramento County Executive, 700 H Street, Room 7650, Sacramento, CA 95814. | Sacramento County Department of Water Resources, 827 7th Street, Room 301, Sacramento, CA 95814. | https://msc.fema.gov/portal/advanceSearch. | Jan. 21, 2026 | 060262
San Bernardino | Unincorporated areas of San Bernardino County (25-09-0175P). | Luther Snoke, Chief Executive Officer, San Bernardino County, 385 North Arrowhead Avenue, 5th Floor, San Bernardino, CA 92415. | San Bernardino County, Main Government Office, 385 North Arrowhead Avenue, San Bernardino, CA 92415. | https://msc.fema.gov/portal/advanceSearch. | Feb. 16, 2026 | 060270
San Diego | City of Chula Vista (25-09-0514P). | Maria V. Kachadoorian, City Manager, City of Chula Vista, 276 4th Avenue, Chula Vista, CA 91910. | City Hall, 276 4th Avenue, Chula Vista, CA 91910. | https://msc.fema.gov/portal/advanceSearch. | Feb. 9, 2026 | 065021
San Joaquin | City of Stockton (25-09-0442P). | William Crew, Acting City Manager, City of Stockton, 425 North El Dorado Street, Stockton, CA 95202. | Permit Center, 345 North El Dorado Street, Stockton, CA 95202. | https://msc.fema.gov/portal/advanceSearch. | Feb. 9, 2026 | 060302
San Joaquin | Unincorporated areas of San Joaquin County (25-09-0442P). | Sandy Regalo, San Joaquin County Administrator, 44 North San Joaquin Street, 6th Floor, Suite 640, Stockton, CA 95202. | San Joaquin County Public Works Department, Water Resources Division, 1810 East Hazelton Avenue, Stockton, CA 95201. | https://msc.fema.gov/portal/advanceSearch. | Feb. 9, 2026 | 060299
Santa Clara | City of San Jose (24-09-0860P). | Jennifer Maguire, City Manager, City of San Jose, 200 East Santa Clara Street, San Jose, CA 95113. | City Hall, 200 East Santa Clara Street, San Jose, CA 95113. | https://msc.fema.gov/portal/advanceSearch. | Jan. 19, 2026 | 060349
Shasta | City of Redding (23-09-1098P). | Barry Tippin, City Manager, City of Redding, 777 Cypress Avenue, Redding, CA 96001. | Permit Center, 777 Cypress Avenue, 1st Floor, Redding, CA 96001. | https://msc.fema.gov/portal/advanceSearch. | Jan. 21, 2026 | 060360
Shasta | Unincorporated areas of Shasta County (23-09-1098P). | David Rickert, Chief Executive Officer, Shasta County, 1450 Court Street, Suite 308A, Redding, CA 96001. | Shasta County Department of Public Works, 1855 Placer Street, Redding, CA 96001. | https://msc.fema.gov/portal/advanceSearch. | Jan. 21, 2026 | 060358
Sonoma | Unincorporated areas of Sonoma County (23-09-1096P). | Christina Rivera, Sonoma County Administrator/Executive, 575 Administration Drive, Room 104A, Santa Rosa, CA 95403. | Sonoma County, Permit Sonoma Office, 2550 Ventura Avenue, Santa Rosa, CA 95403. | https://msc.fema.gov/portal/advanceSearch. | Feb. 13, 2026 | 060375
Sonoma | Unincorporated areas of Sonoma County (25-09-0782P). | Christina Rivera, Sonoma County Administrator/Executive, 575 Administration Drive, Room 104 A, Santa Rosa, CA 95403. | Sonoma County, Permit Sonoma Office, 2550 Ventura Avenue, Santa Rosa, CA 95403. | https://msc.fema.gov/portal/advanceSearch. | Feb. 16, 2026 | 060375
Adams | City of Thornton (24-08-0255P). | The Honorable Jan Kulmann, Mayor, City of Thornton, 9500 Civic Center Drive, Thornton, CO 80229. | City Hall, 9500 Civic Center Drive, Thornton, CO 80229. | https://msc.fema.gov/portal/advanceSearch. | Jan. 23, 2026 | 080007
Colorado:
Adams | City of Thornton (24-08-0345P). | The Honorable Jan Kulmann, Mayor, City of Thornton, 9500 Civic Center Drive, Thornton, CO 80229. | City Hall, 9500 Civic Center Drive, Thornton, CO 80229. | https://msc.fema.gov/portal/advanceSearch. | Feb. 20, 2026 | 080007
Adams | City of Thornton (24-08-0545P). | The Honorable Jan Kulmann, Mayor, City of Thornton, 9500 Civic Center Drive, Thornton, CO 80229. | City Hall, 9500 Civic Center Drive, Thornton, CO 80229. | https://msc.fema.gov/portal/advanceSearch. | Jan. 9, 2026 | 080007
Adams | City of Thornton (25-08-0255P). | The Honorable Jan Kulmann, Mayor, City of Thornton, 9500 Civic Center Drive, Thornton, CO 80229. | City Hall, 9500 Civic Center Drive, Thornton, CO 80229. | https://msc.fema.gov/portal/advanceSearch. | Jan. 2, 2026 | 080007
Adams | Unincorporated areas of Adams County (24-08-0545P). | The Honorable Lynn Baca, Chair, Adams County Board of Commissioners, 4430 South Adams County Parkway, Brighton, CO 80601. | Adams County Community and Economic Development, 4430 South Adams County Parkway, 1st Floor, Suite W2000, Brighton, CO 80601. | https://msc.fema.gov/portal/advanceSearch. | Jan. 9, 2026 | 080001
Arapahoe | City of Centennial (25-08-0381P). | The Honorable Stephanie Piko, Mayor, City of Centennial, 13133 East Arapahoe Road, Centennial, CO 80112. | Southeast Metro Stormwater Authority, 7437 South Fairplay Street, Centennial, CO 80112. | https://msc.fema.gov/portal/advanceSearch. | Jan. 30, 2026 | 080315
Arapahoe | Unincorporated areas of Arapahoe County (25-08-0381P). | The Honorable Leslie Summey, Chair, Arapahoe County Board of Commissioners, 5334 South Prince Street, Littleton, CO 80120. | Arapahoe County, Public Works and Development Department, 6924 South Lima Street, Centennial, CO 80112. | https://msc.fema.gov/portal/advanceSearch. | Jan. 30, 2026 | 080011
Boulder | Unincorporated areas of Boulder County (25-08-0300P). | The Honorable Marta Loachamin, Chair, Boulder County Board of Commissioners, P.O. Box 471, Boulder, CO 80306. | Boulder County Community Planning & Permitting Building, 2045 13th Street, Boulder, CO 80302. | https://msc.fema.gov/portal/advanceSearch. | Feb. 2, 2026 | 080023
Jefferson | City of Westminster (24-08-0345P). | The Honorable Nancy McNally, Mayor, City of Westminster, 4800 West 92nd Avenue, Westminster, CO 80031. | City Hall, 4800 West 92nd Avenue, Westminster, CO 80031. | https://msc.fema.gov/portal/advanceSearch. | Feb. 20, 2026 | 080008
Larimer | Town of Timnath (24-08-0396P). | The Honorable Robert Axmacher, Mayor, Town of Timnath, 4750 Signal Tree Drive, Timnath, CO 80547. | TST Inc., 748 Whalers Way, Fort Collins, CO 80525. | https://msc.fema.gov/portal/advanceSearch. | Dec. 29, 2025 | 080005
Larimer | Unincorporated areas of Larimer County (24-08-0396P). | The Honorable Kristin Stephens, Chair, Larimer County Board of Commissioners, P.O. Box 1190, Fort Collins, CO 80521. | Larimer County Courthouse Offices Building, 200 West Oak Street, Suite 3000, Fort Collins, CO 80521. | https://msc.fema.gov/portal/advanceSearch. | Dec. 29, 2025 | 080101
Larimer and Weld Counties | Town of Windsor (24-08-0396P). | The Honorable Julie Cline, Mayor, Town of Windsor, 301 Walnut Street, Windsor, CO 80550. | Town Hall, 301 Walnut Street, Windsor, CO 80550. | https://msc.fema.gov/portal/advanceSearch. | Dec. 29, 2025 | 080264
Mesa | City of Grand Junction (25-08-0092P). | The Honorable Cody Kennedy, Mayor, City of Grand Junction, 250 North 5th Street, Grand Junction, CO 81501. | City Hall, 250 North 5th Street, Grand Junction, CO 81501. | https://msc.fema.gov/portal/advanceSearch. | Jan. 15, 2026 | 080117
Mesa | Unincorporated areas of Mesa County (25-08-0092P). | The Honorable Cody Davis, Chair, Mesa County Board of Commissioners, Department 5010, P.O. Box 20000, Grand Junction, CO 81501. | Mesa County Commissioner's Office, 544 Rood Avenue, Grand Junction, CO 81501. | https://msc.fema.gov/portal/advanceSearch. | Jan. 15, 2026 | 080115
Teller | Unincorporated areas of Teller County (25-08-0433P). | The Honorable Dan Williams, Chair, Teller County, Board of Commissioners, P.O. Box 959, Cripple Creek, CO 80813. | Teller County, Administrative Offices, 112 North Street, Cripple Creek, CO 80813. | https://msc.fema.gov/portal/advanceSearch. | Feb. 19, 2026 | 080173
Weld | Unincorporated areas of Weld County (24-08-0396P). | The Honorable Perry Buck, Chair, Weld County Board of Commissioners, P.O. Box 758, Greeley, CO 80632. | Weld County Administrative Building, 1150 O Street, Greeley, CO 80631. | https://msc.fema.gov/portal/advanceSearch. | Dec. 29, 2025 | 080266
Weld | Unincorporated areas of Weld County (25-08-0134P). | The Honorable Perry Buck, Chair, Weld County Board of Commissioners, P.O. Box 758, Greeley, CO 80632. | Weld County Administrative Building, 1150 O Street, Greeley, CO 80631. | https://msc.fema.gov/portal/advanceSearch. | Dec. 29, 2025 | 080266
Hawaii: Hawaii | Hawaii County (25-09-0283P). | The Honorable Kimo Alameda, Mayor, Hawaii County, 25 Aupuni Street, Hilo, HI 96720. | Hawaii County Department of Public Works, Aupuni Center, 101 Pauahi Street, Suite 7, Hilo, HI 96720. | https://msc.fema.gov/portal/advanceSearch. | Jan. 28, 2026 | 155166
Idaho:
Ada | City of Boise (25-10-0030P). | The Honorable Lauren McLean, Mayor, City of Boise, 150 North Capitol Boulevard, Boise, ID 83702. | City Hall, 150 North Capitol Boulevard, Boise, ID 83702. | https://msc.fema.gov/portal/advanceSearch. | Feb. 4, 2026 | 160002
Ada | City of Meridian (25-10-0070P). | The Honorable Robert Simison, Mayor, City of Meridian, 33 East Broadway Avenue, Meridian, ID 83642. | City Hall, 33 East Broadway Avenue, Meridian, ID 83642. | https://msc.fema.gov/portal/advanceSearch. | Feb. 4, 2026 | 160180
Ada | Unincorporated areas of Ada County (25-10-0070P). | The Honorable Rod Beck, Chair, Ada County Board of Commissioners, 200 West Front Street, Boise, ID 83702. | Ada County Courthouse, 200 West Front Street, Boise, ID 83702. | https://msc.fema.gov/portal/advanceSearch. | Feb. 4, 2026 | 160001
Nevada: Clark | City of Henderson (25-09-0388P). | The Honorable Michelle Romero, Mayor, City of Henderson, 240 South Water Street, Henderson, NV 89015. | City Hall, 240 South Water Street, Henderson, NV 89015. | https://msc.fema.gov/portal/advanceSearch. | Jan. 9, 2026 | 320005
Oregon:
Jackson | Unincorporated areas of Jackson County (24-10-0764P). | Danny Jordan, Jackson County Administrator, 10 South Oakdale Avenue, Room 214, Medford, OR 97501. | Jackson County Courthouse, 10 South Oakdale Avenue, Room 214, Medford, OR 97501. | https://msc.fema.gov/portal/advanceSearch. | Dec. 18, 2025 | 415589
Multnomah | City of Portland (25-10-0014P). | The Honorable Keith Wilson, Mayor, City of Portland, 1221 Southwest 4th Avenue, Suite 340, Portland, OR 97204. | Permitting and Development, 1900 Southwest 4th Avenue, Suite 5000, Portland, OR 97201. | https://msc.fema.gov/portal/advanceSearch. | Feb. 13, 2026 | 410183
South Dakota:
Pennington | City of Box Elder (24-08-0209P). | The Honorable Larry Larson, Mayor, City of Box Elder, 420 Villa Drive, Box Elder, SD 57719. | City Hall, 420 Villa Drive, Box Elder, SD 57719. | https://msc.fema.gov/portal/advanceSearch. | Jan. 21, 2026 | 460089
Pennington | Unincorporated areas of Pennington County (24-08-0209P). | The Honorable Ron Weifenbach, Chair, Pennington County Board of Commissioners, P.O. Box 6160, Rapid City, SD 57709. | Pennington County Administration Building, 130 Kansas City Street, Rapid City, SD 57701. | https://msc.fema.gov/portal/advanceSearch. | Jan. 21, 2026 | 460064
Washington:
Clark | Unincorporated areas of Clark County (24-10-0454P). | Kathleen Otto, County Manager, Clark County, P.O. Box 9810, Vancouver, WA 98666. | Clark County Public Service Center, 1300 Franklin Street, Vancouver, WA 98666. | https://msc.fema.gov/portal/advanceSearch. | Dec. 24, 2025 | 530024
King | City of Des Moines (25-10-0046P). | Katherine Caffrey, City Manager, City of Des Moines, 21630 11th Avenue South, Suite A, Des Moines, WA 98198. | City Hall, 21630 11th Avenue South, Des Moines, WA 98198. | https://msc.fema.gov/portal/advanceSearch. | Feb. 12, 2026 | 530077
Okanogan | Unincorporated areas of Okanogan County (24-10-0215P). | The Honorable Jon Neal, Chair, Okanogan County Board of Commissioners, 123 5th Avenue North, Suite 150, Okanogan, WA 98840. | Okanogan County, Virginia Grainger Building, 123 5th Avenue North, Suite 130, Okanogan, WA 98840. | https://msc.fema.gov/portal/advanceSearch. | Jan. 29, 2026 | 530117

[FR Doc. 2025-23171 Filed 12-17-25; 8:45 am]

BILLING CODE 9110-12-P